DEPARTMENT OF ENERGY

Federal Energy Regulatory Commission

[Docket Nos. RP01-237-001, RP01-220-001, and RP01-202-001]

National Fuel Gas Supply Corporation; Notice of Proposed Changes in FERC Gas Tariff

March 12, 2001.

Take notice that on March 6, 2001, National Fuel Gas Supply Corporation (National) tendered for filing as part of its FERC Gas Tariff, Fourth Revised Volume No. 1, Substitute First Revised Thirty-second Revised Sheet No. 9 and Substitute Thirty-second Revised Sheet No. 9 to supplement earlier filings National submitted in the above-captioned proceedings.

National states that the revised tariff sheets, to be effective on March 1, 2001, and on February 1, 2001, respectively, are required to correct errors in the original filings caused by a computer program mistake. Further, National states that the correction which involves the IG quantities for the months of November and December, 2000, reduces the IG rate approved at Docket No. RP01-220-000 by one cent per Dth and increases the IG rate proposed at Docket No. RP01-237-000 by three cents per Dth.

National states that copies of this filing were served upon its current customers and interested state commissions.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

David P. Boergers,
Secretary.

[FR Doc. 01-6528 Filed 3-15-01; 8:45 am]

BILLING CODE 6717-01-M